DEPARTMENT OF TRANSPORTATION

Federal Aviation Administration

[Summary Notice No. PE-2001-87]

Petitions for Exemption; Summary of Dispositions of Petitions Issued

AGENCY: Federal Aviation Administration (FAA), DOT.

ACTION: Notice of Dispositions of prior petitions and a correction.

SUMMARY: Pursuant to FAA's rulemaking provisions governing the application, processing, and disposition of petitions for exemption part 11 of title 14, Code of Federal Regulations (14 CFR), this notice contains a summary of dispositions of certain petitions previously received and a correction. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on October 24, 2001.
Donald P. Byrne,
Assistant Chief Counsel for Regulations.

Dispositions of Petitions

Docket No.: FAA-2000-8190.

Petitioner: Atlas Air, Inc.

Section of 14 CFR Affected: 14 CFR 121.434(c)(1)(ii).

Description of Relief Sought/Disposition: To permit Atlas to substitute a qualified and authorized check airman in place of an FAA inspector to observe a qualifying pilot in command who is completing initial or upgrade training specified in § 121.424 during at least on flight leg that includes a takeoff and a landing. Grant, 10/16/2001, Exemption No. 7641

Docket No.: 26826.

Petitioner: AAR Corp.

Section of 14 CFR Affected: 14 CFR 21.327(e)(4).

Description of Relief Sought/Disposition: To permit AAR to export repaired products using FAA Form 8130-3, Airworthiness Approval Tag, without obtaining a written statement from the importing country listing the conditions under § 21.331(a)(1) that have been met. Denial, 10/02/2001, Exemption No. 7632

Docket No.: FAA-2001-10070.

Petitioner: Aerolineas Centrales de Colombia, S.A.

Section of 14 CFR Affected: 14 CFR 121.344(e).

Description of Relief Sought/Disposition: To permit ACES to operate two Avions de Transport Regional ATR 42-500 airplanes without an approved digital flight data recorder installed. Denial, 10/16/2001, Exemption No. 7644

Correction

Docket No.: FAA-2001-10045.

Petitioner: Mountain Air Cargo, Inc.

Section of 14 CFR Affected: 14 CFR 91.203(a) and (b), 121.153(a)(1), and 135.25(a)(1).

Description of Relief Sought/Disposition: To permit MAC to temporarily operate U.S.-registered aircraft in domestic airline operations under part 121 or part 135 without the airworthiness or registration certificate onboard. Grant, 09/10/2001, Exemption No. 7620

[FR Doc. 01-27162 Filed 10-26-01; 8:45 am]

BILLING CODE 4910-13-M